DEPARTMENT OF HEALTH AND HUMAN SERVICES

Centers for Disease Control and Prevention

Request for Nominations of Candidates To Serve on the World Trade Center Health Program Scientific/Technical Advisory Committee (the STAC or the Committee), Centers for Disease Control and Prevention, Department of Health and Human Services

The CDC is soliciting nominations for membership on the World Trade Center (WTC) Health Program Scientific/Technical Advisory Committee (STAC).

Title I of the James Zadroga 9/11 Health and Compensation Act of 2010 (Pub. L. 111-347) was enacted on January 2, 2011, amending the Public Health Service Act (PHS Act) by adding Title XXXIII establishing the WTC Health Program within HHS (Title XXXIII of the PHS Act is codified at 42 U.S.C. 300mm to 300mm-61). Section 3302(a) of the PHS Act established the WTC Health Program Scientific/Technical Advisory Committee (STAC). The STAC is governed by the provisions of the Federal Advisory Committee Act, as amended (Pub. L. 92-463, 5 U.S.C. App.), which sets forth standards for the formation and use of advisory committees in the Executive Branch. PHS Act Section 3302(a)(1) establishes that the STAC will: Review scientific and medical evidence and make recommendations to the [WTC Program] Administrator on additional WTC Program eligibility criteria and on additional WTC-related health conditions. Section 3341(c) of the PHS Act requires the WTC Program Administrator to also consult with the STAC on research regarding certain health conditions related to the September 11 terrorist attacks. The STAC may also be consulted on other matters related to implementation and improvement of the WTC Health Program, as outlined in the PHS Act, at the discretion of the WTC Program Administrator. In accordance with Section 3302(a)(2) of the PHS Act, the WTC Program Administrator will appoint the members of the committee, which must include at least:

• 4 occupational physicians, at least two of whom have experience treating WTC rescue and recovery workers;

• 1 physician with expertise in pulmonary medicine;

• 2 environmental medicine or environmental health specialists;

• 2 representatives of WTC responders;

• 2 representatives of certified-eligible WTC survivors;

• 1 industrial hygienist;

• 1 toxicologist;

• 1 epidemiologist; and

• 1 mental health professional.

At this time the Administrator is seeking nominations for members fulfilling the following categories:

• Epidemiologist

• Environmental medicine or environmental health specialist

• Occupational physician with experience treating WTC rescue and recovery workers;

• Occupational physician

• Representative of WTC responders;

• Toxicologist

Other members may be appointed at the discretion of the WTC Program Administrator.

A STAC member's term appointment may last 3 years. If a vacancy occurs, the WTC Program Administrator may appoint a new member who fulfills the same membership category as the predecessor. STAC members may be appointed to successive terms. The frequency of committee meetings shall be determined by the WTC Program Administrator based on program needs. Meetings may occur up to four times a year. Members are paid the Special Government Employee rate of $250 per day, and travel costs and per diem are included and based on the Federal Travel Regulations.

Any interested person or organization may self-nominate or nominate one or more qualified persons for membership.

Nominations must include the following information:

• The nominee's contact information and current occupation or position;

• The nominee's resume or curriculum vitae, including prior or current membership on other National Institute for Occupational Safety and Health (NIOSH), CDC, or HHS advisory committees or other relevant organizations, associations, and committees;

• The category of membership (epidemiologist, environmental medicine or environmental health specialist, occupational physician with experience treating WTC rescue and recovery workers, occupational physician, representative of WTC responders, or toxicologist) that the candidate is qualified to represent;

• A summary of the background, experience, and qualifications that demonstrates the nominee's suitability for the nominated membership category;

• Articles or other documents the nominee has authored that indicate the nominee's knowledge and experience in relevant subject categories; and

• A statement that the nominee is aware of the nomination, is willing to regularly attend and participate in STAC meetings, and has no known conflicts of interest that would preclude membership on the Committee.

STAC members will be selected upon the basis of their relevant experience and competence in their respective categorical fields. The information received through this nomination process, in addition to other relevant sources of information, will assist the WTC Program Administrator in appointing members to serve on the STAC. In selecting members, the WTC Program Administrator will consider individuals nominated in response to this Federal Register notice as well as other qualified individuals.

The CDC is committed to bringing greater diversity of thought, perspective, and experience to its advisory committees. Nominees from all races, genders, ages, and persons living with disabilities are encouraged to apply. Nominees must be U.S. citizens.

Candidates invited to serve will be asked to submit the “Confidential Financial Disclosure Report,” OGE Form 450. This form is used by CDC to determine whether there is a financial conflict between that person's private interests and activities and their public responsibilities as a Special Government Employee as well as any appearance of a loss of impartiality, as defined by Federal regulation. The form may be viewed and downloaded at http://www.oge.gov/Forms-Library/OGE-Form-450-Confidential-Financial-Disclosure-Report/. This form should not be submitted as part of a nomination.

DATES: Nominations must be submitted (postmarked or electronically received) by March 31, 2015.

Submissions must be electronic or by mail. Submissions should reference docket 229-C. Electronic submissions: You may electronically submit nominations, including attachments, to nioshdocket@cdc.gov. Attachments in Microsoft Word are preferred. Regular, Express, or Overnight Mail: Written nominations may be submitted (one original and two copies) to the following address only: NIOSH Docket 229-C,c/o Mia Wallace, Committee Management Specialist, National Institute for Occupational Safety and Health, Centers for Disease Control and Prevention, 1600 Clifton Rd. NE., MS: E-20, Atlanta, Georgia 30333. Telephone and facsimile submissions cannot be accepted. For further information contact: Paul Middendorf, Senior Health Scientist, 1600 Clifton Rd. NE., MS: E-20, Atlanta, GA 30333; telephone (404) 498-2500 (this is not a toll-free number); email pmiddendorf@cdc.gov.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2015-03682 Filed 2-23-15; 8:45 am]

BILLING CODE P